DEPARTMENT OF ENERGY

Federal Energy Regulatory Commission

[Docket No. PR03-3-000]

Enogex Inc.; Notice of Petition for Rate Approval

November 21, 2002.

Take notice that on November 15, 2002, Enogex Inc. (Enogex) submitted for filing a revised fuel factor for its Palo Duro System for Fuel Year 2003 as calculated under the terms of Enogex's filed fuel tracker.

Enogex seeks an effective date of January 1, 2003. Enogex states that it is serving notice of the filing and the revised fuel percentage on all current shippers.

Pursuant to section 284.123(b)(2)(ii), if the Commission does not act within 150 days of the filing date of Enogex petition, Enogex proposed maximum rates for firm and interruptible storage services will be deemed to be fair and equitable. The Commission may within such 150 day period extend the time for action or institute a proceeding in which all interested parties will be afforded an opportunity for written comments and the oral presentation of views, data, and arguments.

Any person desiring to participate in this rate proceeding must file a motion to intervene or protest with the Federal Energy Regulatory Commission, 888 First Street, NE., Washington DC 20426, in accordance with sections 385.214 or 385.211 of the Commission's rules and regulations. All such motions or protests must be filed with the Secretary of the Commission on or before December 6, 2002. Protests will be considered by the Commission in determining the appropriate action to be taken, but will not serve to make protestants parties to the proceedings. Any person wishing to become a party must file a motion to intervene. This petition for rate approval is available for review at the Commission in the Public Reference Room or may be viewed on the Commission's website at http://www.ferc.gov using the “FERRIS” link. Enter the docket number excluding the last three digits in the docket number field to access the document. For assistance, please call FERC Online Support at FERCOnLine@ferc.gov or toll-free at (866) 208-3676, or for TTY, (202) 502-8659. Comments, protests and interventions may be filed electronically via the Internet in lieu of paper. The Commission strongly encourages electronic filings.See 18 CFR 385.2001(1)(iii) and the instructions on the Commission's web site under the “e-Filing” link.

Linwood A. Watson, Jr.,
Deputy Secretary.

[FR Doc. 02-30209 Filed 11-26-02; 8:45 am]

BILLING CODE 6717-01-P